DEPARTMENT OF HOMELAND SECURITY

[DHS Docket No. DHS-2009-0091]

Notice of Availability of Guidance for Protecting Responders' Health During the First Week Following a Wide-Area Aerosol Anthrax Attack

AGENCY: Office of Health Affairs, DHS.

ACTION: Notice of availability.

SUMMARY: The Department of Homeland Security (DHS) is announcing the availability of a guidance document, Guidance for Protecting Responders' Health During the First Week Following a Wide-Area Aerosol Anthrax Attack. This guidance provides recommendations for protecting personnel responding to a wide-area anthrax attack from developing anthrax as a result of exposure to aerosolized Bacillus anthracis spores and for minimizing the amount of exposure in the first week of a response. Protective measures addressed in the guidance include medical countermeasures (i.e., drugs, vaccine), personal protective equipment (PPE), and other possible work practices. A federal interagency working group that included subject matter experts in biodefense, infectious diseases, and occupational health and safety developed this guidance. Persons interested in obtaining a copy of the guidance may do so by using the Internet. The guidance is available at http://www.regulations.gov, http://phe.gov and http://www.dhs.gov/publication/protecting-responders-health-after-wide-area-aerosol-anthrax-attack.

This document is also available in hard-copy for all those that request it from the federal points of contact.

DATES: The guidance is available beginning October 12, 2012.

FOR FURTHER INFORMATION CONTACT:

Department of Homeland Security: David V. Adams, Chief, Planning & Exercise Support Branch, Office of Health Affairs, Mail Stop 0315, Washington, DC 20528, email address david.adams@hq.dhs.gov, telephone number (202) 254-5756.

Department of Health and Human Services (HHS): Lisa Kaplowitz, MD, MSHA, Deputy Assistant Secretary, Office of Policy and Planning, Office of the Assistant Secretary for Preparedness and Response, 200 Independence Avenue SW., Washington, DC 20201, telephone number (202) 205-2882.

SUPPLEMENTARY INFORMATION: On October 27, 2009, DHS published a notice announcing the availability of “Proposed Guidance for Protecting Responders' Health During the First Week Following a Wide-Area Anthrax Attack.” 74 FR 55246. DHS solicited public feedback and received comments from 75 respondents, including responders, academia, political leaders, and government agencies. Respondents expressed support for the guidance, provided valuable technical feedback in a number of areas of the proposed guidance, as well as commenting on other areas broadly related to an anthrax release/event that are outside the scope of this guidance (e.g., training and funding for vaccination). DHS, HHS and federal partners considered all of the comments and revised the document as appropriate. Specifically, we have increased the clarity of the document and better integrated guidance from the Occupational Safety and Health Administration (OSHA) and the National Institute for Occupational Safety and Health (NIOSH), including more specificity regarding the use of personal protective equipment (PPE). In addition, a number of changes were made to the document to accommodate evolving knowledge regarding the effectiveness of alternative interventions as well as federal policy in the areas of biological protection and response, particularly efforts to make medical countermeasures more readily available. This included incorporating recommendations from a report published by the Advisory Committee on Immunization Practices (ACIP) in the Morbidity and Mortality Weekly Report (MMWR), July 23, 2010, regarding the “Use of Anthrax Vaccine in the United States.” To access the public comments, please go to the Federal eRulemaking Portal at http://www.regulations.gov and access the DHS summary describing the guidance (see Docket No. DHS-2009-0091).

DHS and HHS are now announcing the availability of a revised guidance document, Guidance for Protecting Responders' Health During the First Week Following a Wide-Area Aerosol Anthrax Attack. This guidance can be viewed or downloaded at http://www.regulations.gov, http://phe.gov and http://www.dhs.gov/publication/protecting-responders-health-after-wide-area-aerosol-anthrax-attack.

DHS developed this guidance in consultation with a federal interagency working group that included subject matter experts in biodefense, infectious diseases, and occupational health and safety. The working group included representatives from HHS; the Centers for Disease Control and Prevention (CDC), NIOSH; the Department of Labor, OSHA; and the Environmental Protection Agency (EPA).

The revised guidance reflects the current understanding of the unique environment that would be expected during the first week of a wide-area anthrax release, and is expected to evolve with changes to our understanding regarding exposure risk, scientific developments, and availability of new environmental monitoring techniques. This guidance is intended to support ongoing planning and preparation efforts, as well as to lay the basis for plans to protect individuals beyond traditional first responders. This planning guidance will be refined as the evidence base is strengthened for determining exposure risk and the efficacy of protective measures. This guidance does not have the force or effect of law.

The DHS Office of Health Affairs is issuing the guidance document for public use on behalf of an interagency coalition.

Dated: October 15, 2012.
Alexander G. Garza,
Assistant Secretary for Health Affairs and Chief Medical Officer.

[FR Doc. 2012-25983 Filed 10-19-12; 8:45 am]

BILLING CODE 4150-37-P